DEPARTMENT OF THE INTERIOR

Bureau of Land Management

[LLAK930000.L13100000.FF0000.241A]

Renewal of Approved Information Collection; Control Number 1004-0201

AGENCY: Bureau of Land Management, Interior.

ACTION: 30-day notice and request for comments.

SUMMARY: The Bureau of Land Management (BLM) has submitted an information collection request to the Office of Management and Budget (OMB) to continue the collection of information from applicants for oil shale leases, oil shale lessees, and oil shale operators. The Office of Management and Budget (OMB) previously approved this information collection activity, and assigned it control number 1004-0201.

DATES: The OMB is required to respond to this information collection request within 60 days but may respond after 30 days. For maximum consideration, written comments should be received on or before December 5, 2014.

ADDRESSES: Please submit comments directly to the Desk Officer for the Department of the Interior (OMB #1004- 0201), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0201” regardless of the form of your comments.

FOR FURTHER INFORMATION CONTACT: Mary Linda Ponticelli at 202-912-7115. Persons who use a telecommunication device for the deaf may call the Federal Information Relay Service at 1-800-877-8339 to leave a message for Ms. Ponticelli. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on August 4, 2014 (79 FR 45216), and the comment period ended September 3, 2014. The BLM received no comments. The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0201 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Oil Shale Management (43 CFR parts 3900, 3910, 3920, and 3930).

OMB Control Number: 1004-0201.

Summary: This control number applies to the exploration, development, and utilization of oil shale resources on public lands managed by the BLM. Currently, the only oil shale leases issued by the BLM are for research, development, and demonstration (RD&D). However, the BLM has issued a regulatory framework for both commercial leases and conversion of RD&D leases to commercial leases.

Frequency of Collection: On occasion.

Forms: None.

Description of Respondents: Applicants for oil shale leases, oil shale lessees, and oil shale operators.

Estimated Annual Responses: 24.

Estimated Annual Burden Hours: 1,795.

Estimated Annual Non-Hour Costs: $526,627.

The estimated burdens are itemized in the following table:

Type of response | Number of responses | Hours per response | Total time (Column B × Column C)
A. | B. | C. | D.
Application for Waiver, Suspension, or Reduction of Rental or Payment In Lieu of Production; Application for Reduction in Royalty; or Application for Waiver of Royalty—43 CFR 3903.54(b) | 1 | 1 | 1
Bonding Requirements—43 CFR subpart 3904 | 1 | 1 | 1
Application for an Exploration License—43 CFR 3910.31(a) through (e) | 1 | 24 | 24
Notice Seeking Participation in an Exploration License—43 CFR 3910.31(f) | 1 | 1 | 1
Data Obtained Under an Exploration License—43 CFR 3910.44 | 1 | 8 | 8
Response to Call for Expression of Leasing Interest—43 CFR 3921.30 | 1 | 4 | 4
Application for a Lease—Individuals—43 CFR 3902.23, 3922.20, and 3922.30 | 1 | 308 | 308
Application for a Lease—Associations—43 CFR 3902.24, 3922.20, and 3922.30 | 1 | 308 | 308
Application for a Lease—Corporations—43 CFR 3902.25, 3922.20, and 3922.30 | 1 | 308 | 308
Sealed Bid—43 CFR 3924.10 | 1 | 8 | 8
Application to Convert Research, Development, and Demonstration Lease to Commercial Lease—43 CFR 3926.10(c) | 1 | 308 | 308
Drill and Geophysical Logs—43 CFR 3930.11(b) | 1 | 19 | 19
New Geologic Information—43 CFR 3930.20(b) | 1 | 19 | 19
Plan of Development—43 CFR 3931.11 | 1 | 308 | 308
Application for Suspension of Lease Operations and Production—43 CFR 3931.30 | 1 | 24 | 24
Exploration Plan—43 CFR 3931.41 | 1 | 24 | 24
Modification of Approved Exploration Plan or Plan of Development—43 CFR 3931.50 | 1 | 24 | 24
Production Maps and Production Reports—43 CFR 3931.70 | 1 | 16 | 16
Records of Core or Test Hole Samples and Cuttings—43 CFR 3931.80 | 1 | 16 | 16
Application for Modification of Lease Size—43 CFR 3932.10, 3930.20, and 3932.30 | 1 | 12 | 12
Request for Approval of Assignment of Record Title or Sublease or Notice of Overriding Royalty Interest Assignment—43 CFR subpart 3933 | 2 | 10 | 20
Relinquishment of Lease or Exploration License—43 CFR 3934.10 | 1 | 18 | 18
Production and Sale Records—43 CFR 3935.10 | 1 | 16 | 16
Totals | 24 |  | 1,795

Jean Sonneman,
Bureau of Land Management, Information Collection Clearance Officer.

[FR Doc. 2014-26327 Filed 11-4-14; 8:45 am]

BILLING CODE 4310-84-P